DEPARTMENT OF THE TREASURY

Fiscal Service

31 CFR Part 380

[Docket No. BPD GSRS 08-02]

Collateral Acceptability and Valuation

AGENCY: Bureau of the Public Debt, Fiscal Service, Department of the Treasury.

ACTION: Final rule.

SUMMARY: The Department of the Treasury is amending regulations that govern the acceptability and valuation of collateral pledged to secure deposits of public monies and other financial interests of the government under Treasury's three Fiscal Service collateral programs. This final rule is a nonsubstantive, technical amendment that updates a Web site and a postal mailing address referenced in those regulations.

DATES: Effective date: December 12, 2008.

ADDRESSES: You may download this final rule from the Bureau of the Public Debt's Web site at www.treasurydirect.gov or from the Electronic Code of Federal Regulations (e-CFR) Web site at www.gpoaccess.gov/ecfr. It is also available for public inspection and copying at the Treasury Department Library, Room 1428, Main Treasury Building, 1500 Pennsylvania Avenue, NW., Washington, DC 20220. To visit the library, call (202) 622-0990 for an appointment.

FOR FURTHER INFORMATION CONTACT: Lori Santamorena (Executive Director) or Kurt Eidemiller (Associate Director), Department of the Treasury, Bureau of the Public Debt, Office of the Commissioner, Government Securities Regulations Staff, at (202) 504-3632 or e-mail us at govsecreg@bpd.treas.gov.

SUPPLEMENTARY INFORMATION:

I. Background

The Department of the Treasury (“Treasury”) is amending 31 CFR part 380, which governs the acceptable types of collateral and their assigned values that may be pledged to secure deposits of public monies and other financial interests of the government under Treasury's Fiscal Service collateral programs.

Treasury's Fiscal Service administers several financial programs that involve the pledging of specific collateral. These programs are described in, and governed by, the regulations at 31 CFR part 202 (Depositaries and Financial Agents of the Government), 31 CFR part 203 (Payment of Federal Taxes and the Treasury Tax and Loan Program), and 31 CFR part 225 (Acceptance of Bonds Secured by Government Obligations in Lieu of Bonds with Sureties). The Financial Management Service (“FMS”), a bureau within Treasury's Fiscal Service, administers these programs, which are handled operationally by the Federal Reserve System, acting as fiscal agent for Treasury. The Bureau of the Public Debt (“Public Debt”), another bureau within Treasury's Fiscal Service, administers 31 CFR part 380, which governs the acceptability and valuation of the collateral in these programs. The Government Securities Regulations Staff at Public Debt is responsible for guidance and interpretations of those regulations.

All information about the acceptability and valuation of collateral for these programs can be found on Public Debt's Web site. The Web site has changed and it can now be accessed at http://www.treasurydirect.gov instead of its previous address, http://www.publicdebt.treas.gov. Also, this amendment updates Public Debt's postal mailing address.

II. Procedural Requirements

Executive Order 12866

This final rule is not subject to Executive Order 12866 because it relates only to Treasury's organization, specifically, the mailing address and Web site URL for one of its bureaus.

Administrative Procedure Act, 5 U.S.C. 551 et seq.

The procedures for public notice and comment under 5 U.S.C. 553(b), and the delayed effective date requirement of 5 U.S.C. 553(d), do not apply when an agency for good cause finds that the procedures are unnecessary. This rule does not promulgate any substantive changes to the regulations being amended. Rather, this rule merely makes minor, technical changes, specifically, updating the mailing address and Web site address listed in the regulations, that do not involve the exercise of agency discretion and which are unlikely to generate public comment. Accordingly, Treasury finds that good cause exists to dispense with notice and comment procedures for this rule, and to have the rule take immediate effect, under 5 U.S.C. 553(b)(B) and 553(d)(3).

Regulatory Flexibility Act, 5 U.S.C. 601 et seq.

Because a notice of proposed rulemaking is not required under 5 U.S.C. 553 for this rule, the Regulatory Flexibility Act does not apply to this rule.

List of Subjects in 31 CFR Part 380

Collateral, Depositaries, Government obligations, Government securities, Securities, Surety bonds.

For the reasons set forth in the preamble, we amend Subchapter B of Chapter II of Title 31 of the Code of Federal Regulations by revising part 380 to read as follows:

PART 380—COLLATERAL ACCEPTABILITY AND VALUATION

Subpart A—General Information
Sec.
380.0 What do these regulations govern?
380.1 What special definitions apply to this part?
Subpart B—Acceptable Collateral and Its Valuation
380.2 What collateral may I pledge if I am a depositary or a financial agent of the Government under 31 CFR part 202, and what value will you assign to it?
380.3 What collateral may I pledge if I am a Treasury Tax and Loan depositary under 31 CFR part 203, and what value will you assign to it?
380.4 What collateral may I pledge instead of a surety bond under 31 CFR part 225, and what value will you assign to it?
Subpart C—Miscellaneous Provisions
380.5 Where can I find current information, and who can I contact for additional guidance and interpretation?

Authority: 12 U.S.C. 90, 265-266, 332, 391, 1452(d), 1464(k), 1767, 1789a, 2013, 2122, 3101-3102; 26 U.S.C. 6302; 31 U.S.C. 321, 323, 3301-3304, 3336, 9301, 9303.

Subpart A—General Information

§ 380.0 What do these regulations govern?

The regulations in this part govern the types of acceptable collateral that you may pledge to secure deposits of public monies and other financial interests of the Federal Government, as well as the valuation of that collateral. Specifically, the regulations in this part apply to the programs governed by the Department of the Treasury's regulations at 31 CFR part 202 (Depositaries and Financial Agents of the Government), 31 CFR part 203 (Payment of Federal Taxes and the Treasury Tax and Loan Program), and 31 CFR part 225 (Acceptance of Bonds Secured by Government Obligations in Lieu of Bonds with Sureties). The regulations in this part apply only to the acceptability and valuation of collateral that may be pledged under these programs. 31 CFR parts 202, 203, and 225 continue to govern the respective programs themselves.

§ 380.1 What special definitions apply to this part?

Special definitions that may apply to this part are contained in 31 CFR parts 202, 203 and 225.

Subpart B—Acceptable Collateral and Its Valuation

§ 380.2 What collateral may I pledge if I am a depositary or a financial agent of the Government under 31 CFR part 202, and what value will you assign to it?

Unless we specify otherwise, we will list the types and valuation of acceptable collateral in Treasury procedural instructions. We will also post updated information and guidance on Treasury's Bureau of the Public Debt Web site at http://www.treasurydirect.gov.

§ 380.3 What collateral may I pledge if I am a Treasury Tax and Loan depositary under 31 CFR part 203, and what value will you assign to it?

Unless we specify otherwise, we will list the types and valuation of acceptable collateral in Treasury procedural instructions. We will also post updated information and guidance on Treasury's Bureau of the Public Debt Web site at http://www.treasurydirect.gov.

§ 380.4 What collateral may I pledge instead of a surety bond under 31 CFR part 225, and what value will you assign to it?

Unless we specify otherwise, we will list the types and valuation of acceptable collateral in Treasury procedural instructions. We will also post updated information and guidance on Treasury's Bureau of the Public Debt Web site at http://www.treasurydirect.gov.

Subpart C—Miscellaneous Provisions

§ 380.5 Where can I find current information, and who can I contact for additional guidance and interpretation?

You can find a current list of acceptable classes of securities, instruments and respective valuations on Treasury's Bureau of the Public Debt Web site at http://www.treasurydirect.gov. You may also contact the Office of the Commissioner. We can be reached by postal mail at: Department of the Treasury, Bureau of the Public Debt, Office of the Commissioner, Government Securities Regulations Staff, 799 9th Street, NW., 8th Floor, Washington, DC 20239-0001, or by e-mail at govsecreg@bpd.treas.gov.

Kenneth E. Carfine,
Fiscal Assistant Secretary.

[FR Doc. E8-29440 Filed 12-11-08; 8:45 am]

BILLING CODE 4810-39-P